SECURITIES AND EXCHANGE COMMISSION

Sunshine Act Meetings

Notice is hereby given, pursuant to the provisions of the Government in the Sunshine Act, Pub. L. 94-409, that the Securities and Exchange Commission will hold the following meetings during the week of November 25, 2002:

A closed meeting will be held on Monday, November 25, 2002, at 2:30 p.m., and an open meeting will be held on Tuesday, November 26, 2002, at 10 a.m., in Room 1C30, the William O. Douglas Room.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(5), (7), (9)(B) and (10) and 17 CFR 200.402(a)(5), (7), (9)(ii) and (10), permit consideration of the scheduled matters at the closed meeting.

The subject matter of the closed meeting scheduled for Monday, November 25, 2002, will be:

Institution and settlement of administrative proceedings of an enforcement nature; and

Institution and settlement of injunctive actions.

The subject matter of the open meeting scheduled for Tuesday, November 26, 2002, will be:

1. The Commission will consider whether to issue a release proposing amendments to rule 10b-18 (the safe harbor for issuer repurchases), and amendments to regulations S-K and S-B under the Securities and Exchange Act of 1934, Exchange Act forms 10-Q, 10-QSB, 10-K, 10-KSB, and 20-F, and proposed form N-CSR under the Exchange Act and the Investment Company Act of 1940, regarding disclosure of issuer repurchases.

2. The Commission will consider whether to propose new rule 3a-8 under the Investment Company Act of 1940 that would provide a nonexclusive safe harbor from the definition of investment company for certain bona fide research and development companies.

At times, changes in Commission priorities require alterations in the scheduling of meeting items. For further information and to ascertain what, if any, matters have been added, deleted or postponed, please contact:

The Office of the Secretary at (202) 942-7070.

Dated: November 19, 2002.
Jonathan G. Katz,
Secretary.

[FR Doc. 02-29821 Filed 11-19-02; 4:18 pm]

BILLING CODE 8010-01-P